DEPARTMENT OF HOMELAND SECURITY

Federal Emergency Management Agency

44 CFR Part 65

[Docket ID FEMA-2011-0002; Internal Agency Docket No. FEMA-B-1211]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama:
Baldwin | City of Gulf Shores (11-04-1670P) | June 10, 2011; June 17, 2011; The Islander | The Honorable Robert S. Craft Mayor, City of Gulf Shores P.O. Box 299 Gulf Shores, AL 36547 | June 6, 2011 | 015005
Baldwin | City of Orange Beach (11-04-4328P) | June 22, 2011; June 29, 2011; The Islander | The Honorable Tony Kennon Mayor, City of Orange Beach 4099 Orange Beach Boulevard, Orange Beach, AL 36561 | June 14, 2011 | 015011
Madison | City of Huntsville (10-04-7544P) | June 30, 2011; July 7, 2011; The Huntsville Times | The Honorable Tommy Battle, Mayor, City of Huntsville, 308 Fountain Circle, P.O. Box 308, Huntsville, AL 35801 | November 4, 2011 | 010153
Madison | City of Huntsville (10-04-7862P) | June 22, 2011; June 29, 2011; The Huntsville Times | The Honorable Tommy Battle, Mayor, City of Huntsville, 308 Fountain Circle, P.O. Box 308, Huntsville, AL 35801 | October 27, 2011 | 010153
Madison | City of Madison (10-04-7544P) | June 30, 2011; July 7, 2011; The Huntsville Times | The Honorable Paul Finley, Mayor, City of Madison, 100 Hughes Road, Madison, AL 35758 | November 4, 2011 | 010308
California: Fresno | Unincorporated areas of Fresno County (10-09-3948P) | June 8, 2011; June 15, 2011; The Fresno Bee | The Honorable Phil Larson, Chairman, Fresno County Board of Supervisors, 2281 Tulare Street, Room 300, Fresno, CA 93721 | October 13, 2011 | 065029
Florida:
Bay | City of Panama City (11-04-5514P) | June 16, 2011; June 23, 2011; The News Herald | The Honorable Gregory Brudnicki, Mayor, City of Panama City, 9 Harrison Avenue, Panama City, FL 32401 | June 9, 2011 | 120012
Orange | Unincorporated areas of Orange County (11-04-2514P) | April 7, 2011; April 14, 2011; The Orlando Weekly | The Honorable Teresa Jacobs, Mayor, Orange County, 201 South Rosalind Avenue, 5th Floor, Orlando, FL 32801 | August 12, 2011 | 120179
Sarasota | City of Sarasota (11-04-4005P) | June 16, 2011; June 23, 2011; The Sarasota Herald-Tribune | The Honorable Suzanne Atwell, Mayor, City of Sarasota, 1565 1st Street, Room 101, Sarasota, FL 34236 | June 9, 2011 | 125150
Georgia: Muscogee | City of Columbus-Muscogee County (Consolidated Government) (11-04-4624P) | June 8, 2011; June 15, 2011; The Columbus Ledger-Enquirer | The Honorable Teresa Tomlinson, Mayor, City of Columbus-Muscogee County Consolidated Government, 100 10th Street, Columbus, GA 31901 | May 31, 2011 | 135158
Illinois:
Will | Unincorporated areas of Will County (11-05-1594X) | June 23, 2011; June 30, 2011; The Mokena Messenger | Mr. Lawrence M. Walsh, Will County Executive, 302 North Chicago Street, Joliet, IL 60432 | October 28, 2011 | 170695
Will | Village of Mokena (11-05-1594X) | June 23, 2011; June 30, 2011; The Mokena Messenger | The Honorable Joseph W. Werner, Mayor, Village of Mokena, 11004 Carpenter Street, Mokena, IL 60448 | October 28, 2011 | 170705
Kansas:
Johnson | City of Lenexa (11-07-1137P) | June 1, 2011; June 8, 2011; The Shawnee Dispatch | The Honorable Michael Boehm, Mayor, City of Lenexa, P.O. Box 14888, Lenexa, KS 66285 | October 6, 2011 | 200168
Johnson | City of Shawnee (11-07-1137P) | June 1, 2011; June 8, 2011; The Shawnee Dispatch | The Honorable Jeff Meyers, Mayor, City of Shawnee, 11110 Johnson Drive, Shawnee, KS 66203 | October 6, 2011 | 200177
Kentucky: Fayette | Lexington-Fayette Urban County Government (11-04-0368P) | June 22, 2011; June 29, 2011; The Lexington Herald-Leader | The Honorable Jim Gray, Mayor, Lexington-Fayette Urban County Government, 200 East Main Street, Lexington, KY 40507 | October 27, 2011 | 210067
Michigan:
Macomb | City of St. Clair Shores (11-05-5445P) | July 6, 2011; July 13, 2011; The St. Clair Shores Sentinel | The Honorable Robert A. Hison, Mayor, City of St. Clair Shores, 27600 Jefferson Circle Drive, St. Clair Shores, MI 48081 | June 22, 2011 | 260127
Shiawassee | Charter Township of Owosso (11-05-0616P) | June 3, 2011; June 10, 2011; The Argus Press | Mr. Danny C. Miller, Supervisor, Owosso Charter Township, 2998 West M-2, P.O. Box 400, Owosso, MI 48867 | October 11, 2011 | 260809
Shiawassee | City of Owosso (11-05-0616P) | June 3, 2011; June 10, 2011; The Argus Press | The Honorable Benjamin Frederick, Mayor, City of Owosso, 301 West Main Street, Owosso, MI 48867 | October 11, 2011 | 260596
Nevada: Clark | City of Las Vegas (11-09-1593P) | June 23, 2011; June 30, 2011; The Las Vegas Review-Journal | The Honorable Oscar B. Goodman, Mayor, City of Las Vegas, 400 Stewart Avenue, Las Vegas, NV 89101 | June 16, 2011 | 325276
North Carolina:
Union | Unincorporated areas of Union County (11-04-1541P) | June 2, 2011; June 9, 2011; The Charlotte Observer and The Enquirer-Journal | Ms. Cynthia Coto, Union County Manager, Union County Government Center, 500 North Main Street, Room 918, Monroe, NC 28112 | October 7, 2011 | 370234
Union | Village of Marvin (11-04-1541P) | June 2, 2011; June 9, 2011; The Charlotte Observer and The Enquirer-Journal | The Honorable Nick Dispenziere, Mayor, Village of Marvin, 10004 New Town Road, Marvin, NC 28173 | October 7, 2011 | 370514
Wake | Town of Holly Springs (09-04-6226P) | May 27, 2011; June 3, 2011; The News & Observer | The Honorable Richard G. “Dick” Sears, Mayor, Town of Holly Springs, 128 South Main Street, Holly Springs, NC 27540 | October 3, 2011 | 370403
Wake | Unincorporated areas of Wake County (09-04-6226P) | May 27, 2011; June 3, 2011; The News & Observer | Mr. David Cooke, Wake County Manager, 337 South Salisbury Street, Suite 1100, Raleigh, NC 27602 | October 3, 2011 | 370368
Ohio:
Clinton | Unincorporated areas of Clinton County (10-05-7060P) | June 2, 2011; June 9, 2011; The Wilmington News Journal | Mr. Randy Riley, Clinton County Commissioners Board Member, 46 South South Street, 2nd Floor, Courthouse, Wilmington, OH 45177 | October 7, 2011 | 390764
Clinton | Village of Sabina (10-05-7060P) | June 2, 2011; June 9, 2011; The Wilmington News Journal | The Honorable Dean Carnahan, Mayor, Village of Sabina, 99 North Howard Street, Sabina, OH 45169 | October 7, 2011 | 390627
Lake | Unincorporated areas of Lake County (10-05-5769P) | June 14, 2011; June 21, 2011; The News-Herald | Mr. Raymond E. Sines, President, Lake County Board of Commissioners, 105 Main Street, Painesville, OH 44077 | July 1, 2011 | 390771
Oregon: Linn | City of Millersburg (11-10-0824P) | June 6, 2011; June 13, 2011; The Democrat Herald | The Honorable Clayton Wood, Mayor, City of Millersburg, 4222 Northeast Old Salem Road, Albany, OR 97321 | October 12, 2011 | 410284
South Carolina:
Lexington | City of Columbia (11-04-3465P) | May 5, 2011; May 12, 2011; The Lexington County Chronicle | The Honorable Steve Benjamin, Mayor, City of Columbia, P.O. Box 147, 1737 Main Street, Columbia, SC 29201 | June 13, 2011 | 450172
Lexington | Unincorporated areas of Lexington County (11-04-3465P) | May 5, 2011;May 12, 2011; The Lexington County Chronicle | The Honorable James E. Kinard, Jr., Chairman, Lexington County Council, 212 South Lake Drive, Lexington, SC 29072 | June 13, 2011 | 450129
Richland | Unincorporated areas of Richland County (11-04-1879P) | May 6, 2011; May 13, 2011; The Columbia Star | The Honorable Paul Livingston, Chairman, Richland County Council, P.O. Box 192, 2020 Hampton, Street, 2nd Floor, Columbia, SC 29202 | September 12, 2011 | 450170
Texas:
Dallas | City of Dallas (11-06-3043P) | June 9, 2011; June 16, 2011; The Dallas Morning News | The Honorable Dwaine R. Caraway, Mayor, City of Dallas, 1500 Marilla Street, Room 5EN, Dallas, TX 75201 | October 14, 2011 | 480171
Dallas | City of Coppell (11-06-0227P) | June 10, 2011; June 17, 2011; The Citizens' Advocate | The Honorable Doug Stover, Mayor, City of Coppell, 255 Parkway Boulevard, Coppell, TX 75019 | October 17, 2011 | 480170
Utah:
Washington | City of St. George (11-08-0214P) | May 31, 2011; June 7, 2011; The Spectrum | The Honorable Daniel D. McArthur, Mayor, City of St. George, 175 East 200 North, St., George, UT 84770 | May 24, 2011 | 490177
Washington | Unincorporated areas of Washington County (11-08-0214P) | May 31, 2011; June 7, 2011; The Spectrum | The Honorable Dennis B. Drake, Chairman, Washington County, Board of Commissioners, 197 East Tabernacle Street, St. George, UT 84770 | May 24, 2011 | 490224
Wisconsin:
Brown | Unincorporated areas of Brown County (11-05-4502P) | June 28, 2011; July 5, 2011; The Green Bay Press Gazette | The Honorable Guy Zima, Chairman, Brown County Board, 305 East Walnut Street, Green Bay, WI 54301 | November 2, 2011 | 550020
Portage | City of Stevens Point (10-05-7569P) | July 15, 2011; July 22, 2011; The Portage County Gazette | The Honorable Andrew Halverson, Mayor, City of Stevens Point, 1515 Strongs Avenue Steven, Point, WI 54481 | October 31, 2011 | 550342

(Catalog of Federal Domestic Assistance No. 97.022, “Flood Insurance.”)

Dated: August 5, 2011.
Sandra K. Knight,
Deputy Federal Insurance and Mitigation Administrator, Mitigation, Department of Homeland Security, Federal Emergency Management Agency.

[FR Doc. 2011-20865 Filed 8-16-11; 8:45 am]

BILLING CODE 9110-12-P